DEPARTMENT OF HOMELAND SECURITY

Federal Emergency Management Agency

[Docket ID FEMA-2016-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: February 4, 2016.
Roy E. Wright,
Deputy Associate Administrator for Insurance and Mitigation, Department of Homeland Security, Federal Emergency Management Agency.

State and county | Location and case No. | Chief executive officer of community | Community map repository | Effective date of modification | Community No.
Idaho:
Ada (FEMA Docket No.: B-1531) | City of Eagle (15-10-0917P) | The Honorable James Reynolds, Mayor, City of Eagle, 660 East Civic Lane, Eagle, ID 83616 | 660 East Civic Lane, Eagle, ID 83616 | Nov. 5, 2015 | 160003
Ada (FEMA Docket No.: B-1531) | Unincorporated areas of Ada County (15-10-0917P) | The Honorable Dave Case, District Commissioner, Ada County, 200 West Front Street, 3rd Floor, Boise, ID 83702 | 200 West Front Street, 3rd Floor, Boise, ID 83702 | Nov. 5, 2015 | 160001
Ada (FEMA Docket No.: B-1544) | City of Kuna (15-10-0775P) | The Honorable W. Greg Nelson, Mayor, City of Kuna, 763 West Avalon Street, Kuna, ID 83634 | City Hall, 329 West 3rd Street, Kuna, ID 83634 | Dec. 24, 2015 | 160174
Ada (FEMA Docket No.: B-1544) | Unincorporated areas of Ada County (15-10-0775P) | The Honorable Dave Case, District Commissioner, Ada County, 200 West Front Street, 3rd Floor, Boise, ID 83702 | 200 West Front Street, 3rd Floor, Boise, ID 83702 | Dec. 24, 2015 | 160001
Illinois:
DuPage (FEMA Docket No.: B-1544) | City of Naperville (15-05-2352P) | The Honorable Steve Chirico, Mayor, City of Naperville, 400 South Eagle Street, Naperville, IL 60540 | City Hall, 400 South Eagle Street, Naperville, IL 60540 | Dec. 3, 2015 | 170213
Kane (FEMA Docket No.: B-1531) | City of Elgin (15-05-1616P) | The Honorable Dave Kaptain, Mayor, City of Elgin, 150 Dexter Court, Elgin, IL 60120 | Public Works Department, Engineering Department, 150 Dexter Court, Elgin, IL 60120 | Nov. 3, 2015 | 170087
Kane (FEMA Docket No.: B-1531) | Unincorporated areas of Kane County (15-05-1616P) | The Honorable Christopher Lauzen, Kane County Chairman, Kane County Government Center, 719 South Batavia Avenue, Building A, Geneva, IL 60134 | Kane County Government Center, Water Resources Department, 719 South Batavia Avenue, Building A, Geneva, IL 60134 | Nov. 3, 2015 | 170896
Indiana:
Allen (FEMA Docket No.: B-1533) | Unincorporated areas of Allen County (15-05-5235P) | Commissioner Nelson Peters, Allen County, Board of Commissioners, Citizens Square, 200 East Berry Street, Suite 410, Fort Wayne, IN 46802 | Department of Planning Services, 200 East Berry Street, Suite 150, Fort Wayne, IN 46802 | Nov. 27, 2015 | 180302
Rush (FEMA Docket No.: B-1531) | City of Rushville (15-05-3870X) | The Honorable Michael P. Pavey, Mayor, City of Rushville, 133 West 1st Street, Rushville, IN 46173 | Rush County Courthouse, Area Plan Commission, 101 East 2nd Street, Room 211, Rushville, IN 46173 | Nov. 11, 2015 | 180223
Rush (FEMA Docket No.: B-1531) | Unincorporated areas of Rush County (15-05-3870X) | Mr. Bruce Levi, Chairman, Rush County Board of Commissioners, Rush County Courthouse, 101 East 2nd Street, Room 102, Rushville, IN 46173 | Rush County Courthouse, Area Plan Commission, 101 East 2nd Street, Room 211, Rushville, IN 46173 | Nov. 11, 2015 | 180421
Kansas:
Johnson (FEMA Docket No.: B-1544) | City of Olathe (15-07-1599P) | The Honorable Michael Copeland, Mayor, City of Olathe, P.O. Box 768, Olathe, KS 66051 | Olathe Planning Office, 100 West Santa Fe Drive, Olathe, KS 66061 | Dec. 4, 2015 | 200173
Shawnee (FEMA Docket No.: B-1531) | Unincorporated areas of Shawnee County (15-07-0760P) | The Honorable Kevin Cook, Chair—Shawnee County Commissioners, County Courthouse, 200 Southeast 7th Street, Topeka, KS 66603 | County Courthouse, 200 Southeast 7th Street, Topeka, KS 66603 | Nov. 10, 2015 | 200331
Minnesota:
McLeod (FEMA Docket No.: B-1544) | City of Winsted (15-05-4471P) | The Honorable Steve Stotko, Mayor, City of Winsted, City Hall, 201 1st Street North, Winsted, MN 55395 | McLeod County Sheriff's Office, 801 10th Street East, Glencoe, MN 55336 | Dec. 10, 2015 | 270614
McLeod (FEMA Docket No.: B-1544) | Unincorporated areas of McLeod County (15-05-4471P) | The Honorable Paul Wright, Chair, Board of Commissioners, McLeod County, McLeod County Courthouse, 830 East 11th Street, Glencoe, MN 55336 | McLeod County Sheriff's Office, 801 10th Street East, Glencoe, MN 55336 | Dec. 10, 2015 | 270616
Missouri:
Jackson (FEMA Docket No.: B-1533) | City of Lee's Summit (15-07-1190P) | The Honorable Randy Rhoads, Mayor, City of Lee's Summit, 220 Southeast Green Street, Lee's Summit, MO 64063 | City Hall, 207 Southwest Market Street, Lee's Summit, MO 64063 | Nov. 26, 2015 | 290174
Jefferson (FEMA Docket No.: B-1531) | City of Crystal City (15-07-0050P) | The Honorable Thomas V Schilly, Mayor, City of Crystal City, 130 Mississippi Avenue, Crystal City, MO 63019 | 130 Mississippi Avenue, Crystal City, MO 63019 | Nov. 9, 2015 | 290189
Jefferson (FEMA Docket No.: B-1531) | City of Festus (15-07-0050P) | The Honorable Mike Cage, Mayor, City of Festus, 711 West Main Street, Festus, MO 63028 | Festus Public Works Department, 950 North 5th Street, Festus, MO 63028 | Nov. 9, 2015 | 290191
Jefferson (FEMA Docket No.: B-1533) | Unincorporated areas of Jefferson County (15-07-0620P) | Mr. Ken Walker, Jefferson County Executive, Jefferson County Administration Center, 729 Maple Street, Suite G30, Hillsboro, MO 63050 | 729 Maple Street, Suite G30, Hillsboro, MO 63050 | Nov. 13, 2015 | 290808
Ohio:
Cuyahoga (FEMA Docket No.: B-1531) | City of Strongsville (15-05-3955P) | The Honorable Thomas P. Perciak, Mayor, City of Strongsville, 16099 Foltz Parkway, Strongsville, OH 44149 | City Hall, 16099 Foltz Parkway, Strongsville, OH 44149 | Nov. 6, 2015 | 390132
Texas:
Bowie (FEMA Docket No.: B-1544) | City of Texarkana (15-06-1450P) | The Honorable Bob Bruggeman, Mayor, City of Texarkana, 220 Texas Boulevard, Texarkana, TX 75501 | 220 Texas Boulevard, Texarkana, TX 75501 | Dec. 9, 2015 | 480060
Dallas (FEMA Docket No.: B-1531) | City of Hutchins (14-06-3724P) | The Honorable Mario Vasquez, Mayor, City of Hutchins, 321 North Main Street, Hutchins, TX 75141 | City Hall, 321 North Main Street, Hutchins, TX 75141 | Nov. 6, 2015 | 480179
Dallas (FEMA Docket No.: B-1531) | City of Wilmer (14-06-3724P) | The Honorable Casey Burgess, Mayor, City of Wilmer, 128 North Dallas Avenue, Wilmer, TX 75172 | City Hall, 300 Country Club Road, Wylie, TX 75098 | Nov. 6, 2015 | 480190
Dallas (FEMA Docket No.: B-1531) | Unincorporated areas of Dallas County (14-06-3724P) | The Honorable Clay L. Jenkins, Presiding Officer, County Commissioner Court, 411 Elm Street, Dallas, TX 75202 | Dallas County Records Building, 509 Main Street, Dallas, TX 75202 | Nov. 6, 2015 | 480165
Utah:
Uintah (FEMA Docket No.: B-1533) | City of Vernal (14-08-0909P) | The Honorable Sonja Norton, Mayor, City of Vernal, 374 East Main Street, Vernal, UT 84078 | Vernal Administrative Office, 447 East Main Street, Vernal, UT 84078 | Nov. 25, 2015 | 490149
Uintah (FEMA Docket No.: B-1533) | Unincorporated areas of Uintah County (14-08-0909P) | The Honorable Mike McKee, Commissioner, Uintah County, 152 East 100 North, Vernal, UT 84078 | 152 East 100 North, Vernal, UT 84078 | Nov. 25, 2015 | 490147
Virginia:
Prince William (FEMA Docket No.: B-1533) | City of Manassas (15-03-1081P) | The Honorable Harry J. Parrish, II, Mayor, City of Manassas, 9027 Center Street, Manassas, VA 20110 | Manassas City Engineer's Office, 9027 Center Street, Suite 203, Manassas, VA 20110 | Nov. 19, 2015 | 510122
Prince William (FEMA Docket No.: B-1533) | Unincorporated areas of Prince William County (15-03-1081P) | Mr. Corey A. Stewart, Chairman, Board of County Supervisors, 1 County Complex Court, Prince William, VA 22192 | Prince William County Department of Public Works, Watershed Management Division, 4379 Ridgewood Center Drive, Prince William, VA 22192 | Nov. 19, 2015 | 510119
Washington:
Lewis (FEMA Docket No.: B-1544) | City of Napavine (15-10-0078P) | The Honorable John Sayers, Mayor, City of Napavine, 407 Birch Avenue Southwest, P.O. Box 810, Napavine, WA 98565 | City Hall, 214 2nd Avenue Northeast, Napavine, WA 98565 | Dec. 18, 2015 | 530254
Lewis (FEMA Docket No.: B-1544) | Unincorporated areas of Lewis County (15-10-0078P) | The Honorable Bill Schulte, Lewis County Commissioner, District #2, 351 Northwest North Street, Chehalis, WA 98532 | Division of Public Services, 350 North Market Boulevard, Chehalis, WA 98532 | Dec. 18, 2015 | 530102
Wisconsin:
Milwaukee (FEMA Docket No.: B-1544) | City of Oak Creek (15-05-2729P) | The Honorable Stephen Scaffidi, Mayor, City of Oak Creek, 8460 South Howell Avenue, P.O. Box 27, Oak Creek, WI 53154 | City Hall, 8640 South Howell Avenue, Oak Creek, WI 53154 | Dec. 31, 2015 | 550279
St. Croix (FEMA Docket No.: B-1544) | City of River Falls (15-05-3405P) | The Honorable Dan Toland, Mayor, City of River Falls, City Hall, 222 Lewis Street, River Falls, WI 54022 | City Hall, 123 East Elm Street, River Falls, WI 54022 | Dec. 31, 2015 | 550330
Trempealeau (FEMA Docket No.: B-1531) | Village of Strum (15-05-2619P) | The Honorable Dean Boehne, President, Village of Strum, 202 South 5th Avenue, P.O. Box 25, Strum, WI 54770 | 202 South 5th Avenue, Strum, WI 54770 | Nov. 13, 2015 | 555583
Trempealeau (FEMA Docket No.: B-1531) | Unincorporated areas of Trempealeau County (15-05-2619P) | The Honorable Richard Miller, County Board Chairman, Trempealeau County, 36245 Main Street, Whitehall, WI 54773 | 36245 Main Street, Whitehall, WI 54773 | Nov. 13, 2015 | 555585

[FR Doc. 2016-04890 Filed 3-4-16; 8:45 am]

BILLING CODE 9110-12-P